COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) and service(s) to the Procurement List that will be furnished by nonprofit agencies employing persons who are blind or have other severe disabilities, and delete service(s) previously furnished by such agencies.

DATES: Comments must be received on or before: March 27, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

MR 10795—Party Popper Cake Topper, Includes Shipper 20795

MR 11508—Cat Teaser

MR 13501—Wing Corkscrew

MR 13502—Double Waiters Corkscrew

Designated Source of Supply: Winston-Salem Industries for the Blind, Inc., Winston-Salem, NC

Contracting Activity: Military Resale-Defense Commissary Agency

Distribution: C-List

Mandatory for: The requirements of military commissaries and exchanges in accordance with the 41 CFR 51-6.4

Service(s)

Service Type: Custodial and Refuse Removal Services

Mandatory for: Bureau of Land Management, Las Cruces District Office, Upham and I-25 Parking Sites, Las Cruces, NM

Designated Source of Supply: Tresco, Inc., Las Cruces, NM

Contracting Activity: BUREAU OF LAND MANAGEMENT, BLM ALBUQUERQUE DISTRICT OFFICE

Deletions

The following service(s) are proposed for deletion from the Procurement List:

Service(s)

Service Type: Custodial and Grounds Maintenance Services

Mandatory for: Internal Revenue Service, Fresno Service Center, Fresno, CA, 5045 E. Butler Avenue, Fresno, CA

Designated Source of Supply: Goodwill Service Connection, Inc., Stockton, CA

Contracting Activity: INTERNAL REVENUE SERVICE, WESTERN REGION

Michael R. Jurkowski,
Acting Director, Business Operations.

[FR Doc. 2022-04048 Filed 2-24-22; 8:45 am]

BILLING CODE 6353-01-P